DEPARTMENT OF ENERGY

Federal Energy Regulatory Commission

[Docket No. EG02-112-000, et al.]

Wallula Generation, LLC, et al. Electric Rate and Corporate Regulation Filings

April 9, 2002.

Take notice that the following filings have been made with the Commission. Any comments should be submitted in accordance with Standard Paragraph E at the end of this notice.

1. Wallula Generation, LLC

[Docket No. EG02-112-000]

Take notice that on April 4, 2002, Wallula Generation, LLC (Wallula), a limited liability company with its principal place of business at Wallula Generation, LLC, c/o Newport Generation, Inc., 100 Bayview Circle, Suite 500, Newport Beach, California 92660, filed with the Federal Energy Regulatory Commission (Commission) an application for determination of exempt wholesale generator status pursuant to part 365 of the Commission's regulations.

Wallula states that it will be engaged directly and exclusively in the business of owning a 1,300 MW nominal (net) two 2x1 combined cycle gas-fired electric generating facility and related assets to be located on an approximately 175.48 acre site in rural Walla Walla County, Washington, approximately 8 miles south of the city of Pasco, 2 miles north of the unincorporated community of Wallula, and 7 miles southeast of the unincorporated community of Burbank. Wallula will sell its capacity exclusively at wholesale.

Comment Date: April 30, 2002

2. Cinergy Services, Inc.

[Docket No.ER02-1458-000]

Take notice that on April 1, 2002, Cinergy Services, Inc. (Cinergy) tendered for filing a Notice of Name Change from WestPlains Energy—Kansas a division of Utilicorp United Inc. to Aquila, Inc. d/b/a Aquila Networks—WPK Cinergy respectfully requests waiver of notice to permit the Notice of Name Change to be made effective as of the date of the Notice of Name Change.

A copy of the filing was served upon Aquila, Inc. d/b/a Aquila Networks—WPK.

Comment Date: April 22, 2002

3. Cinergy Services, Inc.

[Docket No. ER02-1459-000]

Take notice that on April 1, 2002, Cinergy Services, Inc. (Cinergy) tendered for filing a Notice of Name Change from Missouri Public Service -a division of Utilicorp United Inc. to Aquila, Inc. d/b/a Aquila Networks—MPS Cinergy respectfully requests waiver of notice to permit the Notice of Name Change to be made effective as of the date of the Notice of Name Change.

A copy of the filing was served upon Aquila, Inc. d/b/a Aquila Networks—MPS.

Comment Date: April 22, 2002

4. PPL Electric Utilities Corporation

[Docket No. ER02-1460-000]

Take notice that on April 1, 2002, PPL Electric Utilities Corporation (PPL Electric) file an Borderline Service Agreement between PPL Electric and Metropolitan Edison Company. PPL Electric requests an effective date of February 28, 2002 for the Borderline Service Agreement.

PPL Electric states that a copy of this filing has been provided to Metropolitan Edison Company and to the Pennsylvania Public Utility Commission.

Comment Date: April 22, 2002

5. PPL Electric Utilities Corporation

[Docket No. ER02-1461-000]

Take notice that on April 1, 2002, PPL Electric Utilities Corporation (PPL Electric) file an Borderline Service Agreement between PPL Electric and Metropolitan Edison Company. PPL Electric requests an effective date of March 1, 2002 for the Borderline Service Agreement.

PPL Electric states that a copy of this filing has been provided to Metropolitan Edison Company and to the Pennsylvania Public Utility Commission.

Comment Date: April 22, 2002

6. PPL Electric utilities Corporation

[Docket No. ER02-1462-000]

Take notice that on April 1, 2002, PPL Electric Utilities Corporation (PPL Electric) file an Borderline Service Agreement between PPL Electric and Pennsylvania Electric Company. PPL Electric requests an effective date of August 8, 2001 for the Borderline Service Agreement.

PPL Electric states that a copy of this filing has been provided to Pennsylvania Electric Company and to the Pennsylvania Public Utility Commission.

Comment Date: April 22, 2002

7. Maine Electric Power Company

[Docket No. ER02-1463-000]

Please take notice that on April 1, 2002, Maine Electric Power Company (MEPCO) tendered for filing an Executed Service Agreement for Non-Firm Point-to-Point Transmission Service with New Brunswick Power Corporation., designated as FERC Electric Tariff, Volume No. 1, as supplemented, Service Agreement No. 69.

Comment Date: April 22, 2002

8. Northwestern Energy

[Docket No. ER02-1464-000]

Take notice that on April 1,2002, NorthWestern Energy (NWE, formally The Montana Power Company) tendered for filing with the Federal Energy Regulatory Commission (Commission) pursuant to 18 CFR 35.13 an unexecuted Firm Point-To-Point Transmission Service Agreement with IdaCorp Energy under NWE's FERC Electric Tariff, Fourth Revised Volume No. 5 (Open Access Transmission Tariff).

A copy of the filing was served upon IdaCorp Energy.

Comment Date: April 22, 2002

9. Boston Edison Company

[Docket No. ER02-1465-000]

Take notice that on April 1, 2002, Boston Edison Company (Boston Edison) tendered for filing an executed, substitute Interconnection Agreement between Sithe Mystic Development LLC and Boston Edison. Boston Edison states that the Interconnection Agreement incorporates provisions of the Settlement Agreement approved by the Federal Energy Regulatory Commission (Commission) in this proceeding, 98 FERC ¶ 61,198 (2002).

Boston Edison requests an effective date for the compliance portion of March 6, 2001. For the amendments Boston Edison request an effective date of May 31, 2002 Comment Date: April 22, 2002

10. Aquila, Inc.

[Docket No.ER02-1466-000]

Take notice that on April 1, 2002, Aquila, Inc. submitted a Notice of Succession pursuant to 18 CFR 35.16 and 131.51 Aquila, Inc. is succeeding to the electric tariffs, rate schedules, and service agreements currently on file with the Federal Energy Regulatory Commission (Commission) by UtiliCorp United Inc.

Comment Date: April 22, 2002

11. Avista Corporation, Bonneville Power Administration, Idaho Power Company, Montana Power Company, Nevada Power Company, PacifiCorp, Portland General Electric Company, Puget Sound Energy, Inc., Sierra Pacific Power Company

[Docket No. RT01-35-005]

Take notice that on March 29, 2002, Avista Corporation, Bonneville Power Administration, Idaho Power Company, NorthWestern Energy, L.L.C. (formerly the Montana Power Company), Nevada Power Company, PacifiCorp, Portland General Electric Company, Puget Sound Energy, Inc. and Sierra Pacific Power Company, joined by British Columbia Hydro and Power Authority, a nonjurisdictional Canadian utility, (collectively, the filing utilities), provided to the Federal Energy Regulatory Commission (Commission) a Stage 2 Filing and Request for Declaratory Order Pursuant to Order 2000, in accordance with 18 CFR 35.43(c)(2) and (g).

Comment Date: May 13, 2002

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-9020 Filed 4-12-02; 8:45 am]

BILLING CODE 6717-01-P